DEPARTMENT OF LABOR

Employment and Training Administration

[TA-W-73,963]

Dentek.Com, Inc. D/B/A Nsequence Center for Advanced Dentistry Reno, NV; Notice of Negative Determination on Reconsideration

By application dated July 16, 2010, the petitioner requested administrative reconsideration of the Department's negative determination regarding eligibility to apply for Trade Adjustment Assistance (TAA), applicable to workers and former workers of the subject firm. The determination was signed on August 13, 2010. The Department's Notice will soon be published in the Federal Register. Workers at the subject firm are engaged in employment related to the production of dental prosthetics (such as crowns and the bridges).

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative determination applicable to workers and former workers at Dentek.com, Inc., d/b/a nSequence Center for Advanced Dentistry, Reno, Nevada (the subject firm) was based on the findings that the subject firm did not, during the period under investigation, shift to a foreign country production of dental prosthetics, or articles like or directly competitive with those produced by the workers, or acquire these articles from a foreign country; that the workers' separation, or threat of separation, was not related to any increase in imports of dental prosthetics, or like or directly competitive articles; and that the workers did not produce an article or supply a service that was directly used in the production of an article or the supply of service by a firm that employed a worker group that is eligible to apply for TAA based on the aforementioned article or service.

During the reconsideration investigation, the Department obtained new information from the subject firm regarding imports and its operations and reviewed publically available information regarding the subject firm and its operations, as well as additional information provided by the petitioner.

In a subsequent letter to the Department, the petitioner states that, in 2008, “the decision was made to begin in earnest to out-source all of the crown and the bridge except for the extreme rush cases” and, as a result of the action, “all of the staff was released.” The petitioner also alleges that vendors such as the subject firm send orders “directly to China.”

Information obtained during the reconsideration investigation confirmed that the subject firm did not shift production of dental prosthetics, or like or directly competitive articles, to a foreign country, and that, during the relevant period, the subject firm did not increase its imports of dental prosthetics, or like or directly competitive articles.

A customer survey was not conducted during the reconsideration investigation because the customers of the subject firm are individual dental health care professionals and not firms. Further, the prosthetics are custom-made for the patients of the customers.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 10th day of November, 2010.
Del Min Amy Chen,
Certifying Officer, Division of Trade Adjustment Assistance.

[FR Doc. 2010-29432 Filed 11-22-10; 8:45 am]

BILLING CODE 4510-FN-P